DEPARTMENT OF COMMERCE

Census Bureau

2005 National Census Test Coverage Follow Up

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(C)(2)(A)).

DATES: Written comments must be submitted on or before February 11, 2005.

ADDRESSES: Direct all written comments to Diana Hynek, Departmental Paperwork Clearance Officer, Room 6625, 14th and Constitution Avenue, NW., Washington, DC 20230 (or via the Internet at Dhynek@doc.gov).

FOR FURTHER INFORMATION CONTACT: Requests for additional information or copies of the information collection instruments and instructions should be directed to Frank Vitrano, U.S. Census Bureau, Building 2, Room 2012, Washington, DC 20233-9200, 301-763-3961.

SUPPLEMENTARY INFORMATION

I. Abstract

Improved coverage (See Definition of Terms) is one of the four major goals for Census 2010. In preparation for the 2010 Census, the U.S. Census Bureau plans to conduct a series of tests. In September 2005, the Census Bureau will conduct the 2005 National Census Test (NCT) to evaluate a variety of short form questionnaire content and design modifications, and the effect of a bilingual questionnaire on response rates and data quality. The results of this test will help guide the Census Bureau as it develops the final short form questionnaire design and content for the 2010 Census.

In support of the 2005 NCT, the Coverage Followup (CFU) is intended to develop and evaluate new procedures to improve coverage and reduce duplication. We want to determine whether respondents included all the appropriate persons on their form and excluded persons who should have been counted elsewhere. The CFU will collect data to evaluate different versions of the coverage questions and different presentations of the residence rules instructions (See Definition of Terms) included on the 2005 NCT questionnaire. We also will create, test and analyze an automated version of the paper coverage followup questionnaire used in the 2004 Census Test.

The Census Bureau will conduct the CFU operation from November 1, 2005 through March 6, 2006.

II. Method of Collection

Approximately 60,000 households will be included in the followup sample for this operation. The sample is broken down into five categories:

• Households that responded “yes” to either coverage question;

• A sample of households that responded “no” to both coverage questions;

• Households that contain at least one match between the StARS database (see Definition of Terms) and 2005 NCT data and at least one nonmatch in StARS. This will identify households with potentially missed people.

• Households containing more than six persons; and

• Households that were not asked any coverage questions.

The coverage questions for the 2005 CFU operation will be chosen based on the results of cognitive tests using four revised versions of the 2004 Census Test undercount question (Question 2) and overcount question (Question 10). These questions are designed to ensure that each individual is counted once and only once and in the right place.

The CFU interviewers will attempt to contact, via telephone, all the households that fall in the CFU sample. The followup interview will be conducted at the Census Bureau telephone call centers by U.S. Census Bureau staff. These questions will be conducted using computer-assisted telephone interviewing (CATI). The results will be used to further improve and enhance the questionnaire for the 2010 Census. For this operation, there will be no field followup (i.e personal visits by enumerators) for those households that refuse to give information over the telephone and those households that telephone interviewers are unable to reach.

The purpose of the CFU telephone contact is to identify those persons who may have been counted in more than one household or erroneously excluded from any household. The items included in the 2005 CFU questionnaire are probes that are intended to indicate whether respondents understood and properly applied the residence rules instructions on the 2005 NCT questionnaire.

Definition of Terms

Coverage—How well the Census Bureau counts people and housing units in the census.

Residence Rules Instructions—Instructions that respondents use to determine who should be counted in that household. They are meant to insure that everyone is counted once and in the right place for the primary purposes of apportionment and redistricting.

StARS—The Statistical Administrative Records System (StARS) is an administrative records database built from six national level data files.

III. Data

OMB Number: Not available.

Form Number(s): None.

Type of Review: Regular.

Affected Public: Individuals or households.

Estimated Number of Respondents: 60,000.

Estimated Time Per Response: 10 minutes.

Estimated Total Annual Burden Hours: 10,000 hours.

Estimated Total Annual Cost: There is no cost to respondents except for their time to respond.

Respondent Obligation: Mandatory.

Legal Authority: Title 13 of the United States Code, Sections 141 and 193.

IV. Request for Comments

Comments are invited on (a) whether the proposed collection of information is necessary for the proper performance of the functions of the agency, including whether the information shall have practical utility; (b) the accuracy of the agency's estimate of the burden (including hours and cost) of the proposed collection of information; (c) ways to enhance the quality, utility, and clarity of the information to be collected, and (d) ways to minimize the burden of the collection of information on respondents, including through the use of automated collection techniques or other forms of information technology.

Comments submitted in response to this notice will be summarized and/or included in the request for OMB approval of this information collection; they also will become a matter of public record.

Dated: December 7, 2004.
Madeleine Clayton,
Management Analyst, Office of the Chief Information Officer.

[FR Doc. 04-27205 Filed 12-10-04; 8:45 am]

BILLING CODE 3510-07-P